DEPARTMENT OF COMMERCE

International Trade Administration

[A-570-967; A-570-935; A-570-941; A-570-954; A-570-912; A-570-943; A-570-962; A-570-947; A-570-939; A-570-930; A-570-937; A-570-920; A-570-952; A-570-945; A-570-922; A-570-925]

Implementation of Determinations Under Section 129 of the Uruguay Round Agreements Act: Aluminum Extrusions From the People's Republic of China; Certain Circular Welded Carbon Quality Steel Line Pipe From the People's Republic of China; Certain Kitchen Appliance Shelving and Racks From the People's Republic of China; Certain Magnesia Carbon Bricks From the People's Republic of China; Certain New Pneumatic Off-the-Road Tires From the People's Republic of China; Certain Oil Country Tubular Goods From the People's Republic of China; Certain Potassium Phosphate Salts from the People's Republic of China; Certain Steel Grating From the People's Republic of China; Certain Tow Behind Lawn Groomers and Certain Parts Thereof From the People's Republic of China; Circular Welded Austenitic Stainless Pressure Pipe From the People's Republic of China; Citric Acid and Certain Citrate Salts From the People's Republic of China; Lightweight Thermal Paper From the People's Republic of China; Narrow Woven Ribbons With Woven Selvedge From the People's Republic of China; Prestressed Concrete Steel Wire Strand From the People's Republic of China; Raw Flexible Magnets From the People's Republic of China; Sodium Nitrite From the People's Republic of China

AGENCY: Enforcement and Compliance, International Trade Administration, Department of Commerce.

SUMMARY: On July 20, 2015, the U.S. Trade Representative (USTR) instructed the Department of Commerce (Department) to implement its determinations under section 129 of the Uruguay Round Agreements Act (URAA) regarding the antidumping duty (AD) investigations on aluminum extrusions from the People's Republic of China (PRC); certain circular welded carbon quality steel line pipe from the PRC; certain kitchen appliance shelving and racks (kitchen racks) from the PRC; certain magnesia carbon bricks from the PRC; certain oil country tubular goods from the PRC; certain potassium phosphate salts from the PRC; certain steel grating from the PRC; certain tow behind lawn groomers and certain parts thereof from the PRC; circular welded austenitic stainless pressure pipe from the PRC; citric acid and certain citrate salts from the PRC; lightweight thermal paper from the PRC; narrow woven ribbons with woven selvedge from the PRC; prestressed concrete steel wire strand from the PRC; raw flexible magnets from the PRC; and sodium nitrite from the PRC; and regarding the AD administrative reviews of certain new pneumatic off-the-road tires from the PRC and kitchen racks from the PRC, which renders them not inconsistent with the World Trade Organization (WTO) dispute settlement findings in the Appellate Body report on United States—Countervailing and Anti-dumping Measures on Certain Products from China, WT/DS449/AB/R (July 7, 2014), and the panel report, as modified by the Appellate Body report, WT/DS449/R (March 27, 2014), adopted by the WTO Dispute Settlement Body on July 22, 2014 (DS 449). The Department issued its final determinations in these section 129 proceedings on June 26, 2015 and July 10, 2015.¹ The Department is now implementing these final determinations.

¹ See Memoranda from Christian Marsh, Deputy Assistant Secretary for Antidumping and Countervailing Duty Operations to Paul Piquado, Assistant Secretary for Enforcement and Compliance, regarding: (1) Section 129 Proceeding (WTO DS449): Antidumping Duty Investigation of Aluminum Extrusions from the People's Republic of China—Final Determination (dated June 26, 2015); (2) Section 129 Proceeding (WTO DS449): Antidumping Duty Investigation of Circular Welded Carbon Quality Steel Line Pipe from the People's Republic of China—Final Determination (dated July 10, 2015); (3) Section 129 Proceeding (WTO DS449): Antidumping Duty Investigation of Certain Kitchen Appliance Shelving and Racks from the People's Republic of China—Final Determination (dated June 26, 2015); (4) Section 129 Proceeding (WTO DS449): Antidumping Duty Review of Certain Kitchen Appliance Shelving and Racks from the People's Republic of China—Final Determination (dated June 26, 2015); (5) Section 129 Proceeding (WTO DS449): Antidumping Duty Investigation of Certain Magnesia Carbon Bricks from the People's Republic of China—Final Determination (dated June 26, 2015); (6) Section 129 Proceeding (WTO DS449): Antidumping Duty Review of Certain New Pneumatic Off-The-Road Tires from the People's Republic of China—Final Determination (dated June 26, 2015); (7) Section 129 Proceeding (WTO DS449): Antidumping Duty Investigation of Oil Country Tubular Goods from the People's Republic of China—Final Determination (dated June 26, 2015); (8) Section 129 Proceeding (WTO DS449): Antidumping Duty Investigation of Certain Potassium Phosphate Salts from the People's Republic of China—Final Determination (dated June 26, 2015); (9) Section 129 Proceeding (WTO DS449): Antidumping Duty Investigation of Certain Steel Grating from the People's Republic of China—Final Determination (dated July 10, 2015); (10) Section 129 Proceeding (WTO DS449): Antidumping Duty Investigation of Certain Tow Behind Lawn Groomers and Certain Parts Thereof from the People's Republic of China—Final Determination (dated July 10, 2015); (11) Section 129 Proceeding (WTO DS449): Antidumping Duty Investigation of Circular Welded Austenitic Stainless Pressure Pipe from the People's Republic of China—Final Determination (dated July 10, 2015); (12) Section 129 Proceeding (WTO DS449): Antidumping Duty Investigation of Citric Acid and Certain Citrate Salts from the People's Republic of China—Final Determination (dated July 10, 2015); (13) Section 129 Proceeding (WTO DS449): Antidumping Duty Investigation of Lightweight Thermal Paper from the People's Republic of China—Final Determination (dated June 26, 2015); (14) Section 129 Proceeding (WTO DS449): Antidumping Duty Investigation of Narrow Woven Ribbons with Woven Selvedge from the People's Republic of China—Final Determination (dated July 10, 2015); (15) Section 129 Proceeding (WTO DS449): Antidumping Duty Investigation of Prestressed Concrete Steel Wire Strand from the People's Republic of China—Final Determination (dated June 26, 2015); (16) Section 129 Proceeding (WTO DS449): Antidumping Duty Investigation of Raw Flexible Magnets from the People's Republic of China—Final Determination (dated July 10, 2015); (17) Section 129 Proceeding (WTO DS449): Antidumping Duty Investigation of Sodium Nitrite from the People's Republic of China—Final Determination (dated July 10, 2015).

DATES: Effective Date: July 20, 2015.

FOR FURTHER INFORMATION CONTACT: Lisa Wang or Erin Begnal, U.S. Department of Commerce, 14th Street and Constitution Avenue NW., Washington, DC 20230; telephone: (202) 482-5673 or (202) 482-1442.

SUPPLEMENTARY INFORMATION: On January 28, 2015, the Department informed parties that it was initiating proceedings under section 129 of the URAA to implement the findings adopted by the WTO Dispute Settlement Body in DS 449 with respect to the above-referenced AD investigations and administrative reviews concerning the Department's imposition of ADs calculated on the basis of the methodology for nonmarket economy countries prescribed by section 773(c) of the Tariff Act of 1930 (the Act), as amended, concurrently with the imposition of countervailing duties upon the same products without having assessed whether so-called “double remedies,” (i.e., the offsetting of the same subsidy twice) arose from such concurrent duties. Although the AD investigation on drill pipe from the PRC (A-570-965) was also subject to the dispute settlement findings in DS 449, the Department did not initiate a section 129 proceeding regarding the drill pipe from the PRC AD investigation because the AD order on drill pipe from the PRC was revoked following a negative injury determination by the U.S. International Trade Commission.²

² See Drill Pipe From the People's Republic of China: Notice of Court Decision Not in Harmony With International Trade Commission's Injury Determination, Revocation of Antidumping and Countervailing Duty Orders Pursuant to Court Decision, and Discontinuation of Countervailing Duty Administrative Review, 79 FR 78037 (December 29, 2014).

On February 10, 2015, and April 14, 2015, the Department issued questionnaires to the mandatory respondents and accepted voluntary respondents in the underlying investigations and administrative reviews, concerning the issue of double remedies. None of the respondents in the underlying investigations or administrative reviews subject to this notice responded to the double remedies questionnaires. In the preliminary determinations, because no party responded to the Department's requests for information in these section 129 proceedings, we preliminarily determined that, without the requested information, there is no basis for making an adjustment for potential overlapping remedies under section 777A(f) of the Act. Between April 15, 2015, and May 28, 2015, the Department issued the preliminary determinations and provided interested parties an opportunity to comment. Following the comment period, the Department issued its final determinations for the section 129 proceedings on June 26, 2015 and July 10, 2015, which were unchanged from the preliminary determinations.

In its July 20, 2015 letter, the USTR notified the Department that, consistent with section 129(b)(3) of the URAA, consultations with the Department and the appropriate congressional committees with respect to the June 26, 2015, and July 10, 2015 determinations have been completed. Also on July 20, 2015, in accordance with section 129(b)(4) of the URAA, the USTR directed the Department to implement these determinations.

Nature of the Proceedings

Section 129 of the URAA governs the nature and effect of determinations issued by the Department to implement findings by WTO dispute settlement panels and the Appellate Body.

Specifically, section 129(b)(2) of the URAA provides that “notwithstanding any provision of the Tariff Act of 1930,” upon a written request from the USTR, the Department shall issue a determination that would render its actions not inconsistent with an adverse finding of a WTO panel or the Appellate Body.³ The Statement of Administrative Action, U.R.A.A., H. Doc. 316, Vol. 1, 103d Cong. (1994) (SAA), variously refers to such a determination by the Department as a “new,” “second,” and “different” determination.⁴ After consulting with the Department and the appropriate congressional committees, the USTR may direct the Department to implement, in whole or in part, the new determination made under section 129 of the URAA.⁵ Pursuant to section 129(c) of the URAA, the new determination shall apply with respect to unliquidated entries of the subject merchandise that are entered or withdrawn from warehouse, for consumption, on or after the date on which the USTR directs the Department to implement the new determination.⁶ The new determination is subject to judicial review, separate and apart from judicial review of the Department's original determination.⁷

³ See 19 U.S.C. 3538(b)(2).

⁴ See SAA at 1025, 1027.

⁵ See 19 U.S.C. 3538(b)(4).

⁶ See 19 U.S.C. 3538(c).

⁷ See 19 U.S.C. 1516a(a)(2)(B)(vii).

Final Determinations: Analysis of Comments Received

To the extent that issues were raised by interested parties during the period for comment following the issuance of the preliminary determinations, those issues are addressed in the respective final determinations. The final determinations are public documents and are available to the public via Enforcement and Compliance's Antidumping and Countervailing Duty Centralized Electronic Service System (ACCESS). ACCESS is available to registered users at https://access.trade.gov, and is available to all parties in the Central Records Unit, Room B8024 of the main Department of Commerce building. In addition, complete versions of the final determinations can be accessed directly on the Internet at http://enforcement.trade.gov/download/section129/full-129-index.html. The signed versions of the final determinations and the electronic versions of the final determinations are identical in content.

Final Antidumping Duty Margins

The recalculated AD rates, as included in the final determinations and which remain unchanged from the preliminary determinations for each company, are as follows:

Aluminum Extrusions From the People's Republic of China
[AD Investigation]
Exporter | Producer | Weighted- average dumping margin | Margin adjusted for export subsidies ⁸
Guang Ya Aluminium Industries Co., Ltd.; Foshan Guangcheng Aluminium Co., Ltd.; Kong Ah International Company Limited; Guang Ya Aluminium Industries (Hong Kong) Limited; Zhaoqing New Zhongya Aluminum Co., Ltd.; Zhongya Shaped Aluminium (HK) Holding Limited; Karlton Aluminum Company Ltd | Guang Ya Aluminium Industries Co., Ltd.; Foshan Guangcheng Aluminium Co., Ltd.; Kong Ah International Company Limited; Guang Ya Aluminium Industries (Hong Kong) Limited; Zhaoqing New Zhongya Aluminum Co., Ltd.; Zhongya Shaped Aluminium (HK) Holding Limited; Karlton Aluminum Company Ltd.; Xinya Aluminum & Stainless Steel Product Co., Ltd. (A.K.A. New Asia Aluminum & Stainless Steel Product Co., Ltd.) | 33.28 | 33.02
Alnan Aluminium Co., Ltd | Alnan Aluminium Co., Ltd | 32.79 | 0.00
Changshu Changsheng Aluminium Products Co., Ltd | Changshu Changsheng Aluminium Products Co., Ltd | 32.79 | 0.00
China Square Industrial Limited | China Square Industrial Limited | 32.79 | 0.00
Cosco (J.M.) Aluminium Co., Ltd | Cosco (J.M.) Aluminium Co., Ltd | 32.79 | 0.00
First Union Property Limited | First Union Property Limited | 32.79 | 0.00
Foshan Jinlan Non-ferrous Metal Product Co. Ltd | Foshan Jinlan Non-ferrous Metal Product Co. Ltd | 32.79 | 0.00
Foshan Sanshui Fenglu Aluminium Co., Ltd | Foshan Sanshui Fenglu Aluminium Co., Ltd | 32.79 | 0.00
Guangdong Hao Mei Aluminium Co., Ltd | Guangdong Hao Mei Aluminium Co., Ltd | 32.79 | 0.00
Guangdong Weiye Aluminium Factory Co., Ltd | Guangdong Weiye Aluminium Factory Co., Ltd | 32.79 | 0.00
Guangdong Xingfa Aluminium Co., Ltd | Guangdong Xingfa Aluminium Co., Ltd | 32.79 | 0.00
Hanwood Enterprises Limited | Hanwood Enterprises Limited | 32.79 | 0.00
Honsense Development Company | Honsense Development Company | 32.79 | 0.00
Innovative Aluminium (Hong Kong) Limited | Innovative Aluminium (Hong Kong) Limited | 32.79 | 0.00
Jiangyin Trust International Inc | Jiangyin Trust International Inc | 32.79 | 0.00
JMA (HK) Company Limited | JMA (HK) Company Limited | 32.79 | 0.00
Kam Kiu Aluminium Products Sdn Bhd | Kam Kiu Aluminium Products Sdn Bhd | 32.79 | 0.00
Longkou Donghai Trade Co., Ltd | Longkou Donghai Trade Co., Ltd | 32.79 | 0.00
Ningbo Yili Import and Export Co., Ltd | Ningbo Yili Import and Export Co., Ltd | 32.79 | 0.00
North China Aluminum Co., Ltd | North China Aluminum Co., Ltd | 32.79 | 0.00
PanAsia Aluminium (China) Limited | PanAsia Aluminium (China) Limited | 32.79 | 0.00
Pingguo Asia Aluminum Co., Ltd | Pingguo Asia Aluminum Co., Ltd | 32.79 | 0.00
Popular Plastics Co., Ltd | Popular Plastics Co., Ltd | 32.79 | 0.00
Press Metal International Ltd | Press Metal International Ltd | 32.79 | 0.00
Shenyang Yuanda Aluminium Industry Engineering Co. Ltd | Shenyang Yuanda Aluminium Industry Engineering Co. Ltd | 32.79 | 0.00
Tai-Ao Aluminium (Taishan) Co., Ltd | Tai-Ao Aluminium (Taishan) Co., Ltd | 32.79 | 0.00
Tianjin Ruixin Electric Heat Transmission Technology Co., Ltd | Tianjin Ruixin Electric Heat Transmission Technology Co., Ltd | 32.79 | 0.00
USA Worldwide Door Components (Pinghu) Co., Ltd.; Worldwide Door Components (Pinghu) Co | USA Worldwide Door Components (Pinghu) Co., Ltd.; Worldwide Door Components (Pinghu) Co | 32.79 | 0.00
Zhejiang Yongkang Listar Aluminium Industry Co., Ltd | Zhejiang Yongkang Listar Aluminium Industry Co., Ltd | 32.79 | 0.00
Zhongshan Gold Mountain Aluminium Factory Ltd | Zhongshan Gold Mountain Aluminium Factory Ltd | 32.79 | 0.00
PRC-wide Entity |  | 33.28 | 33.28

Certain Circular Welded Carbon Quality Steel Line Pipe From the People's Republic of China
[AD Investigation]
Exporter | Producer | Weighted- average dumping margin | Margin adjusted for export subsidies ⁹
Huludao Steel Pipe Industrial Co., Ltd./Huludao City Steel Pipe Industrial Co., Ltd | Huludao Steel Pipe Industrial Co., Ltd./Huludao City Steel Pipe Industrial Co., Ltd | 73.87 | 73.44
Pangang Group Beihai Steel Pipe Corporation | Pangang Group Beihai Steel Pipe Corporation | 73.87 | 73.44
Jiangsu Yulong Steel Pipe Co., Ltd | Jiangsu Yulong Steel Pipe Co., Ltd | 73.87 | 73.44
Tianjin Xingyuda Import and Export Co., Ltd | Tianjin Lifengyuanda Steel Pipe Group Co., Ltd | 73.87 | 73.44
PRC-wide Entity |  | 101.10 | 101.10

Certain Kitchen Appliance Shelving and Racks From the People's Republic of China
[AD Investigation]
Exporter | Producer | Weighted- average dumping margin | Margin adjusted for export subsidies ¹⁰
Guangdong Wireking Housewares Hardware Co., Ltd. (a/k/a Foshan Shunde Wireking Housewares Hardware Co., Ltd.) | Guangdong Wireking Housewares Hardware Co., Ltd | 95.99 | 95.99
New King Shan (Zhu Hai) Co., Ltd | New King Shan (Zhu Hai) Co., Ltd | 43.09 | 41.92
Marmon Retail Services Asia | Leader Metal Industry Co., Ltd. (a/k/a Marmon Retail Services Asia) | 43.09 | 41.92
Hangzhou Dunli Import Export Co., Ltd | Hangzhou Dunli Industry Co., Ltd | 43.09 | 41.92
Jiangsu Weixi Group Co | Jiangsu Weixi Group Co. | 43.09 | 41.92
PRC-wide Entity * |  | 95.99 | 95.99
* This rate also applies to Asber Enterprise Co., Ltd. (China).

Certain Kitchen Appliance Shelving and Racks From the People's Republic of China
[AD Administrative Review: 03/05/2009-08/31/2010]
Exporter | Weighted- average dumping margin ¹¹
Guangdong Wireking Housewares Hardware Co., Ltd (a/k/a Foshan Shunde Wireking Housewares Hardware Co., Ltd.) | 7.89
New King Shan (Zhu Hai) Co., Ltd | 0.00
Hangzhou Dunli Import Export Co., Ltd | 7.89
PRC-wide Entity | 95.99

Certain Magnesia Carbon Bricks From the People's Republic of China
[AD Investigation]
Exporter | Producer | Weighted- average dumping margin | Margin adjusted for export subsidies ¹²
RHI Refractories Liaoning Co., Ltd | RHI Refractories Liaoning Co., Ltd | 128.10 | 106.86
Dashiqiao City Guancheng Refractor Co., Ltd | Dashiqiao City Guancheng Refractor Co., Ltd | 128.10 | 106.86
Fengchi Imp. And Exp. Co., Ltd. Of Haicheng City | Fengchi Refractories Co., of Haicheng City | 128.10 | 106.86
Jiangsu Sujia Group New Materials Co. Ltd | Jiangsu Sujia Group New Materials Co. Ltd | 128.10 | 106.86
Liaoning Fucheng Refractories Group Co., Ltd | Liaoning Fucheng Refractories Group Co., Ltd | 128.10 | 106.86
Liaoning Fucheng Special Refractory Co., Ltd | Liaoning Fucheng Special Refractory Co., Ltd | 128.10 | 106.86
Liaoning Jiayi Metals & Minerals Co., Ltd | Liaoning Jiayi Metals & Minerals Co., Ltd | 128.10 | 106.86
Yingkou Bayuquan Refractories Co., Ltd | Yingkou Bayuquan Refractories Co., Ltd | 128.10 | 106.86
Yingkou Dalmond Refractories Co., Ltd | Yingkou Dalmond Refractories Co., Ltd | 128.10 | 106.86
Yingkou Guangyang Co., Ltd | Yingkou Guangyang Co., Ltd | 128.10 | 106.86
Yingkou Jiahe Refractories Co., Ltd | Yingkou Jiahe Refractories Co., Ltd | 128.10 | 106.86
Yingkou Kyushu Refractories Co, Ltd | Yingkou Kyushu Refractories Co, Ltd | 128.10 | 106.86
Yingkou New Century Refractories Ltd | Yingkou New Century Refractories Ltd | 128.10 | 106.86
Yingkou Wonjin Refractory Material Co., Ltd | Yingkou Wonjin Refractory Material Co., Ltd | 128.10 | 106.86
PRC-wide Entity * |  | 236.00 | 236.00
* This rate also applies to Liaoning Mayerton Refractories Co., Ltd. and Dalian Mayerton Refractories Co., Ltd.

Certain New Pneumatic Off-The-Road Tires From the People's Republic of China
[AD Administrative Review: 02/20/2008-08/31/2009)
Exporter | Weighted-average dumping margin ¹³
Hebei Starbright Tire Co., Ltd | 28.97
Hangzhou Zhongce Rubber Co., Ltd | 28.97
KS Holding Limited/KS Resources Limited | 28.97
Laizhou Xiongying Rubber Industry Co., Ltd | 28.97
Qingdao Taifa Group Co., Ltd | 28.97
Weihai Zhongwei Rubber Co., Ltd | 28.97

Certain Oil Country Tubular Goods From the People's Republic of China
[AD Investigation]
Exporter | Producer | Weighted- average dumping margin | Margin adjusted for export subsidies ¹⁴
Tianjin Pipe International Economic and Trading Corporation | Tianjin Pipe (Group) Corporation | 32.07 | 31.99
Angang Group Hong Kong Co., Ltd | Angang Steel Co. Ltd | 32.07 | 32.04
Angang Steel Co., Ltd., and Angang Group International Trade Corporation | Angang Steel Co. Ltd | 32.07 | 32.04
Anhui Tianda Oil Pipe Co., Ltd | Anhui Tianda Oil Pipe Co., Ltd | 32.07 | 32.04
Anshan Zhongyou Tipo Pipe & Tubing Co., Ltd | Anshan Zhongyou Tipo Pipe & Tubing Co., Ltd | 32.07 | 32.04
Baotou Steel International Economic and Trading Co., Ltd | Seamless Tube Mill of Inner Mongolia Baotou Steel Union Co., Ltd | 32.07 | 32.04
Benxi Northern Steel Pipes Co., Ltd | Benxi Northern Steel Pipes Co., Ltd | 32.07 | 32.04
Chengdu Wanghui Petroleum Pipe Co. Ltd | Chengdu Wanghui Petroleum Pipe Co. Ltd | 32.07 | 32.04
Dalipal Pipe Company | Dalipal Pipe Company | 32.07 | 32.04
Freet Petroleum Equipment Co., Ltd. of Shengli Oil Field, the Thermal Recovery Equipment, Zibo Branch (A.K.A. Zibo Thermal Equipment Company of Shengli Oil Field Freet) | Freet Petroleum Equipment Co., Ltd. of Shengli Oil Field, the Thermal Recovery Equipment, Zibo Branch (A.K.A. Zibo Thermal Equipment Company of Shengli Oil Field Freet) | 32.07 | 32.04
Hengyang Steel Tube Group International Trading, Inc | Hengyang Valin MPM Tube Co., Ltd.; Hengyang Valin Steel Tube Co., Ltd | 32.07 | 32.04
Huludao Steel Pipe Industrial Co., Ltd./Huludao City Steel Pipe Industrial Co., Ltd | Huludao Steel Pipe Industrial Co., Ltd./Huludao City Steel Pipe Industrial Co., Ltd | 32.07 | 32.04
Jiangsu Chengde Steel Tube Share Co., Ltd | Jiangsu Chengde Steel Tube Share Co., Ltd | 32.07 | 32.04
Jiangyin City Changjiang Steel Pipe Co., Ltd | Jiangyin City Changjiang Steel Pipe Co., Ltd | 32.07 | 32.04
Pangang Group Beihai Steel Pipe Corporation | Pangang Group Beihai Steel Pipe Corporation | 32.07 | 32.04
Qingdao Bonded Logistics Park Products International Trading Co., Ltd | Shengli Oilfield Highland Petroleum Equipment Co., Ltd.; Shandong Continental Petroleum Equipment Co., Ltd.; Aofei Tele Dongying Import & Export Co., Ltd.; Highgrade Tubular Manufacturing (Tianjin) Co., Ltd.; Cangzhou City Baohai Petroleum Material Co., Ltd | 32.07 | 32.04
Qiqihaer Haoying Iron and Steel Co., Ltd. of Northeast Special Steel Group | Qiqihaer Haoying Iron and Steel Co., Ltd. of Northeast Special Steel Group | 32.07 | 32.04
Shandong Dongbao Steel Pipe Co., Ltd | Shandong Dongbao Steel Pipe Co., Ltd | 32.07 | 32.04
Shandong Huabao Steel Pipe Co., Ltd | Shandong Huabao Steel Pipe Co., Ltd | 32.07 | 32.04
Shandong Molong Petroleum Machinery Co., Ltd | Shandong Molong Petroleum Machinery Co., Ltd | 32.07 | 32.04
Shanghai Metals & Minerals Import & Export Corp./Shanghai Minmetals Materials & Products Corp | Jiangsu Changbao Steel Pipe Co., Ltd.; Huludao Steel Pipe Industrial Co., Ltd.; Northeast Special Steel Group Qiqihaer Haoying Steel And Iron Co., Ltd.; Beijing Youlu Co., Ltd | 32.07 | 32.04
Shanghai Zhongyou Tipo Steel Pipe Co., Ltd | Shanghai Zhongyou Tipo Steel Pipe Co., Ltd | 32.07 | 32.04
Shengli Oil Field Freet Petroleum Equipment Co., Ltd | Freet Petroleum Equipment Co., Ltd. Of Shengli Oil Field, The Thermal Recovery Equipment, Zibo Branch; Faray Petroleum Steel Pipe Co., Ltd.; Shengli Oil Field Freet Petroleum Steel Pipe Co., Ltd | 32.07 | 32.04
Shengli Oil Field Freet Petroleum Steel Pipe Co., Ltd | Freet Petroleum Equipment Co., Ltd. of Shengli Oil Field, the Thermal Recovery Equipment, Zibo Branch; Anhui Tianda Oil Pipe Co., Ltd; Wuxi Fastube Dingyuan Precision Steel Pipe Co., Ltd | 32.07 | 32.04
Shengli Oilfield Highland Petroleum Equipment Co., Ltd | Tianjin Pipe Group Corp.; Goods & Materials Supply Dept. Of Shengli Oilfield Sinopec; Dagang Oilfield Group New Century Machinery Co. Ltd.; Tianjin Seamless Steel Pipe Plant; Baoshan Iron & Steel Co. Ltd | 32.07 | 32.04
Shengli Oilfield Shengji Petroleum Equipment Co., Ltd | Shengli Oilfield Shengji Petroleum Equipment Co., Ltd | 32.07 | 32.04
Tianjin Seamless Steel Pipe Plant | Tianjin Seamless Steel Pipe Plant | 32.07 | 32.04
Tianjin Tiangang Special Petroleum Pipe Manufacturer Co., Ltd | Tianjin Tiangang Special Petroleum Pipe Manufacturer Co., Ltd | 32.07 | 32.04
Wuxi Baoda Petroleum Special Pipe Manufacturing Co., Ltd | Wuxi Baoda Petroleum Special Pipe Manufacturing Co., Ltd | 32.07 | 32.04
Tianjin Xingyuda Import and Export Co., Ltd. & Hong Kong Gallant Group Limited | Tianjin Lifengyuanda Steel Group Co., Ltd | 32.07 | 32.04
Wuxi Seamless Oil Pipe Co., Ltd | Wuxi Seamless Oil Pipe Co., Ltd | 32.07 | 32.07
Wuxi Sp. Steel Tube Manufacturing Co., Ltd | Wuxi Precese Special Steel Co., Ltd | 32.07 | 32.04
Wuxi Zhenda Special Steel Tube Manufacturing Co., Ltd | Huai'an Zhenda Steel Tube Manufacturing Co., Ltd | 32.07 | 32.04
Xigang Seamless Steel Tube Co., Ltd | Xigang Seamless Steel Tube Co., Ltd.; Wuxi Seamless Special Pipe Co., Ltd | 32.07 | 32.04
Yangzhou Lontrin Steel Tube Co., Ltd | Yangzhou Lontrin Steel Tube Co., Ltd | 32.07 | 32.04
Zhejiang Jianli Co., Ltd., & Zhejiang Jianli Steel Tube Co., Ltd | Zhejiang Jianli Co., Ltd.; Zhejiang Jianli Steel Tube Co., Ltd | 32.07 | 32.07
PRC-wide Entity * |  | 99.14 | 99.14
* Includes: Jiangsu Changbao Steel Tube Co., Ltd. and Jiangsu Changbao Precision Tube Co., Ltd. and Shengli Oil Field Freet Import & Export Trade Co., Ltd.

Certain Potassium Phosphate Salts From the People's Republic of China
[AD Investigation]
Exporter | Producer | Weighted-average dumping margin ¹⁵
Snow-Apple Group Limited | Chengdu Long Tai Biotechnology Co., Ltd | 62.23
Tianjin Chengyi International Trading (Tianjin) Co., Limited | Zhenjiang Dantu Guangming Auxiliary Material Factory | 62.23
Tianjin Chengyi International Trading (Tianjin) Co., Limited | Sichuan Shifang Hongsheng Chemicals Co., Ltd | 62.23
Wenda Co., Ltd | Thermphos (China) Food Additive Co., Ltd | 62.23
Yunnan Newswift Company Ltd | Guangxi Yizhou Yisheng Fine Chemicals Co., Ltd | 62.23
Yunnan Newswift Company Ltd | Mainzhu Hanwang Mineral Salt Chemical Co., Ltd | 62.23
Yunnan Newswift Company Ltd | Sichuan Shengfeng Phosphate Chemical Co., Ltd | 62.23
PRC-wide Entity ¹⁶ |  | 95.40

Certain Steel Grating From the People's Republic of China
[AD Investigation]
Exporter | Producer | Weighted-average dumping margin ¹⁷
Ningbo Haitian International Co., Ltd | Ningbo Lihong Steel Grating Co., Ltd | 38.16
Yantai Xinke Steel Structure Co., Ltd | Yantai Xinke Steel Structure Co., Ltd | 38.16
Sinosteel Yantai Steel Grating Co., Ltd | Sinosteel Yantai Steel Grating Co., Ltd | 136.76
Ningbo Jiulong Machinery Manufacturing Co., Ltd | Ningbo Jiulong Machinery Manufacturing Co., Ltd | 145.18
PRC-wide Entity * |  | 145.18
* The PRC-wide entity rate includes Shanghai DAHE Grating Co., Ltd.

Certain Tow Behind Lawn Groomers and Certain Parts Thereof From the People's Republic of China
[AD Investigation]
Exporter | Producer | Weighted-average dumping margin ¹⁸
Nantong D & B Machinery Co., Ltd | Nantong D & B Machinery Co., Ltd | 154.72
Qingdao Huatian Truck Co., Ltd. a.k.a. Qingdao Huatian Hand Truck Co., Ltd | Qingdao Huatian Truck Co., Ltd. a.k.a. Qingdao Huatian Hand Truck Co., Ltd | 154.72
PRC-wide Entity * |  | 386.28
* The PRC-wide entity includes Jiashan Superpower Tools Co., Ltd. and Princeway Furniture (Dong Guan) Co., Ltd.

Circular Welded Austenitic Stainless Pressure Pipe From the People's Republic of China
[AD Investigation]
Exporter | Producer | Weighted-Average dumping margin ¹⁹
Zhejiang Jiuli Hi—Tech Metals Co., Ltd | Zhejiang Jiuli Hi—Tech Metals Co., Ltd | 10.53
PRC-wide Entity (including Winner Machinery Enterprise Co., Ltd.) |  | 55.21

Citric Acid and Certain Citrate Salts From the People's Republic of China
[AD Investigation]
Exporter | Producer | Weighted- average dumping margin | Margin adjusted for export subsidies ²⁰
TTCA Co., Ltd. (a.k.a. Shandong TTCA Biochemistry Co., Ltd.) | TTCA Co., Ltd. (a.k.a. Shandong TTCA Biochemistry Co., Ltd.) | 129.08 | 127.32
Yixing Union Biochemical Co., Ltd | Yixing Union Biochemical Co., Ltd | 94.61 | ²¹ N/A
Anhui BBCA Biochemical Co., Ltd | Anhui BBCA Biochemical Co., Ltd | 111.85 | 110.97
Anhui BBCA Biochemical Co., Ltd | China BBCA Maanshan Biochemical Corp | 111.85 | 110.97
A.H.A. International Co., Ltd | Yixing Union Biochemical Co., Ltd | 111.85 | 110.97
A.H.A. International Co., Ltd | Nantong Feiyu Fine Chemical Co., Ltd | 111.85 | 110.97
High Hope International Group Jiangsu Native Produce IMP & EXP Co., Ltd | Yixing Union Biochemical Co., Ltd | 111.85 | 110.97
Huangshi Xinghua Biochemical Co., Ltd | Huangshi Xinghua Biochemical Co., Ltd | 111.85 | 110.97
Lianyungang JF International Trade Co., Ltd | TTCA Co., Ltd. (a.k.a. Shandong TTCA Biochemistry Co., Ltd.) | 111.85 | 110.97
Laiwu Taihe Biochemistry Co., Ltd | Laiwu Taihe Biochemistry Co., Ltd | 111.85 | 110.97
Lianyungang Shuren Scientific Creation Import & Export Co., Ltd | Lianyungang Great Chemical Industry Co., Ltd | 111.85 | 110.97
Penglai Marine Bio-Tech Co. Ltd | Penglai Marine Bio-Tech Co. Ltd | 111.85 | 110.97
RZBC Imp & Exp. Co., Ltd./RZBC Co., Ltd./RZBC (Juxian) Co., Ltd | RZBC Co., Ltd | 111.85 | 110.97
RZBC Imp & Exp. Co., Ltd./RZBC Co., Ltd./RZBC (Juxian) Co., Ltd | RZBC (Juxian) Co., Ltd | 111.85 | 110.97
RZBC Imp & Exp. Co., Ltd./RZBC Co., Ltd./RZBC (Juxian) Co., Ltd | Lianyungang Great Chemical Industry Co., Ltd | 111.85 | 110.97
Shihezi City Changyun Biochemical Co., Ltd | Shihezi City Changyun Biochemical Co., Ltd | 111.85 | 110.97
Weifang Ensign Industry Co., Ltd | Weifang Ensign Industry Co., Ltd | 111.85 | 110.97
PRC-wide Entity |  | 156.87 | 156.87

Lightweight Thermal Paper From the People's Republic of China
[AD Investigation]
Exporter | Producer | Weighted- average dumping margin | Margin adjusted for export subsidies ²²
Shanghai Hanhong Paper Co., Ltd, also known as Hanhong International Limited | Shanghai Hanhong Paper Co., Ltd | 115.29 | 115.29
Guangdong Guanhao High-Tech Co., Ltd | Guangdong Guanhao High-Tech Co., Ltd | 19.77 | 19.64
PRC-wide Entity |  | 115.29 | 115.29

Narrow Woven Ribbons with Woven Selvedge From the People's Republic of China
[AD Investigation]
Exporter | Producer | Weighted- average dumping margin | Margin adjusted for export subsidies ²³
Beauty Horn Investment Limited | Tianjin Sun Ribbon Co., Ltd | 123.83 | 123.44
Fujian Rongshu Industry Co., Ltd | Fujian Rongshu Industry Co., Ltd | 123.83 | 123.44
Guangzhou Complacent Weaving Co., Ltd | Guangzhou Complacent Weaving Co., Ltd | 123.83 | 123.44
Ningbo MH Industry Co., Ltd | Hangzhou City Linghu Jiacheng Silk Ribbon Co., Ltd | 123.83 | 123.44
Ningbo V.K. Industry & Trading Co., Ltd | Ningbo Yinzhou Jinfeng Knitting Factory | 123.83 | 123.44
Stribbons (Guangzhou) Ltd | Stribbons (Guangzhou) Ltd | 123.83 | 123.44
Stribbons (Guangzhou) Ltd | Stribbons (Nanyang) MNC Ltd | 123.83 | 123.44
Sun Rich (Asia) Limited | Dongguan Yi Sheng Decoration Co., Ltd | 123.83 | 123.44
Tianjin Sun Ribbon Co., Ltd. | Tianjin Sun Ribbon Co., Ltd | 123.83 | 123.44
Weifang Dongfang Ribbon Weaving Co., Ltd | Weifang Dongfang Ribbon Weaving Co., Ltd | 123.83 | 123.44
Weifang Yu Yuan Textile Co., Ltd | Weifang Yu Yuan Textile Co., Ltd | 123.83 | 123.44
Xiamen Yi He Textile Co., Ltd | Xiamen Yi He Textile Co., Ltd | 123.83 | 123.44
Yangzhou Bestpak Gifts & Crafts Co., Ltd | Yangzhou Bestpak Gifts & Crafts Co., Ltd | 123.83 | 123.44
PRC-wide Entity * |  | 247.65 | 247.65
* Including Ningbo Jintian Import & Export Co., Ltd.

Prestressed Concrete Steel Wire Strand From the People's Republic of China
[AD Investigation]
Exporter | Producer | Weighted average dumping margin | Margin adjusted for export subsidies ²⁴
Wuxi Jinyang Metal Products Co., Ltd | Wuxi Jinyang Metal Products Co., Ltd | 42.97 | 42.42
Xinhua Metal Products Co., Ltd | Xinhua Metal Products Co., Ltd | 175.94 | 175.74
Fasten Group Import & Export Co., Ltd | Jiangyin Fasten Steel Products Co., Ltd., Jiangyin Walsin Steel Cable Co., Ltd., Jiangyin Hongyu Metal Products Co., Ltd | 175.94 | 175.85
PRC-wide Entity * |  | 193.55 | 193.55
* This rate also applies to Tianjin Shengte Prestressed Concrete Steel Strand Co., Ltd., Silvery Dragon PC Steel Products Group Co., Ltd., and Tongda.

Raw Flexible Magnets From the People's Republic of China
[AD Investigation]
Exporter | Producer | Weighted- average dumping margin ²⁵
Guangzhou Newlife Magnet Electricity Co., Ltd | Guangzhou Newlife Magnet Electricity Co., Ltd | 105.00
PRC-wide Entity * |  | 185.28
* The PRC-wide entity includes Polyflex Magnets Ltd.

Sodium Nitrite From the People's Republic of China
[AD Investigation]
Exporter | Producer | Weighted-average dumping margin ²⁶
PRC-wide Entity * |  | 190.74
* The PRC-wide entity includes Hualong Ammonium Nitrate Company Ltd. and Qingdao Hengyuan Chemical Co., Ltd.

Implementation of the Revised Cash Deposit Requirements

⁸ Consistent with our practice, where the product was also subject to a concurrent countervailing duty proceeding, the weighted-average margins listed here reflect a deduction for the countervailing duty determined to constitute an export subsidy.

⁹ Consistent with our practice, where the product was also subject to a concurrent countervailing duty proceeding, the weighted-average margins listed here reflect a deduction for the countervailing duty determined to constitute an export subsidy.

¹⁰ Consistent with our practice, where the product was also subject to a concurrent countervailing duty proceeding, the weighted-average margins listed here reflect a deduction for the countervailing duty determined to constitute an export subsidy.

¹¹ Consistent with our practice, where the product was also subject to a concurrent countervailing duty proceeding, the weighted-average margins listed here reflect a deduction for the countervailing duty determined to constitute an export subsidy.

¹² Consistent with our practice, where the product was also subject to a concurrent countervailing duty proceeding, the weighted-average margins listed here reflect a deduction for the countervailing duty determined to constitute an export subsidy.

¹³ Consistent with our practice, where the product was also subject to a concurrent countervailing duty proceeding, the weighted-average margins listed here reflect an adjustment for the countervailing duty determined to constitute an export subsidy.

¹⁴ Consistent with our practice, where the product was also subject to a concurrent countervailing duty proceeding, the weighted-average margins listed here reflect a deduction for the countervailing duty determined to constitute an export subsidy.

¹⁵ The calculated margins in the underlying investigation were not adjusted to reflect a deduction for any countervailing duty determined to constitute export subsidies.

¹⁶ The PRC-wide rate includes Sichuan Blue Sword Import and Export Co., Ltd., and SD BNI (LYG) Co., Ltd.

¹⁷ The calculated margins in the underlying investigation were not adjusted to reflect a deduction for any countervailing duty determined to constitute export subsidies.

¹⁸ The calculated margins in the underlying investigation were not adjusted to reflect a deduction for any countervailing duty determined to constitute an export subsidy.

¹⁹ The calculated margins in the underlying investigation were not adjusted to reflect a deduction for any countervailing duty determined to constitute export subsidies.

²⁰ Consistent with our practice, where the product was also subject to a concurrent countervailing duty proceeding, the weighted-average margins listed here reflect a deduction for the countervailing duty determined to constitute an export subsidy.

²¹ Yixing Union Biochemical Co., Ltd.'s countervailing duty margin did not consist of any export subsidies.

²² Consistent with our practice, where the product was also subject to a concurrent countervailing duty proceeding, the weighted-average margins listed here reflect a deduction for the countervailing duty determined to constitute an export subsidy.

²³ Consistent with our practice, where the product was also subject to a concurrent countervailing duty proceeding, the weighted-average margins listed here reflect a deduction for the countervailing duty determined to constitute an export subsidy.

²⁴ Consistent with our practice, where the product was also subject to a concurrent countervailing duty proceeding, the weighted-average margins listed here reflect a deduction for the countervailing duty determined to constitute an export subsidy.

²⁵ The calculated margins in the underlying investigation were not adjusted to reflect a deduction for any countervailing duty determined to constitute export subsidies.

²⁶ The calculated margins in the underlying investigation were not adjusted to reflect a deduction for any countervailing duty determined to constitute export subsidies.

On July 20, 2015, in accordance with sections 129(b)(4) and 129(c)(1)(B) of the URAA and after consulting with the Department and Congress, the USTR directed the Department to implement these final determinations. With respect to each of these proceedings, unless the applicable cash deposit rate has been superseded by intervening administrative reviews, the Department will instruct U.S. Customs and Border Protection to require a cash deposit for estimated ADs at the appropriate rate for each exporter/producer specified above, for entries of subject merchandise, entered or withdrawn from warehouse, for consumption, on or after July 20, 2015.

This notice of implementation of these section 129 final determinations is published in accordance with section 129(c)(2)(A) of the URAA.

Dated: July 22, 2015.
Paul Piquado,
Assistant Secretary for Enforcement and Compliance.

[FR Doc. 2015-18625 Filed 7-28-15; 8:45 am]

BILLING CODE P